DEPARTMENT OF THE INTERIOR

Meeting of the California Desert District Advisory Council

AGENCY: Bureau of Land Management, Interior.

ACTION: Notice of public meeting.

SUMMARY: Notice is hereby given, in accordance with Public Laws 92-463 and 94-579, that the California Desert District Advisory Council to the Bureau of Land Management, U.S. Department of the Interior, will participate in a field tour of the BLM-administered public lands on Friday, January 7, 2005, from 7:30 a.m. to 5 p.m., and meet in formal session on Saturday, January 8, from 8 a.m. to 5 p.m. The Saturday meeting will be held in the Pinnacles Room in the Kerr McGee Community Center, located at 100 W. California Avenue, Ridgecrest, California.

The Council and interested members of the public will depart for a field tour at 7:30 a.m. from the parking lot of the Heritage Inn Hotel, which is located at 1050 North Norma in Ridgecrest, California. The public is welcome to participate in the tour, but should plan on providing their own transportation, drinks, and lunch.

Agenda items tentatively scheduled for the Saturday Council meeting will include reports by Advisory Council members, the District Manager and the five District field office managers. Additional briefings to be scheduled.

The Advisory Council also confirmed meetings on the following dates:

—April 1-2

—June 24-25

—September 23-24

Each meeting will include a field tour on Friday from 7:30 a.m. to 5 p.m. and a public meeting on Saturday from 8 a.m. to 5 p.m. Once finalized, the locations and agenda topics will be published in the Federal Register and posted on BLM's California State Web page at http://www.ca.blm.gov/news. Click on Advisory Councils and scroll down to the California Desert District Advisory Council.

All Desert District Advisory Council meetings are open to the public. Time for public comment may be made available by the Council Chairman during the presentation of various agenda items, and is scheduled at the end of the meeting for topics not on the agenda.

Written comments may be filed in advance of the meeting for the California Desert District Advisory Council, c/o Bureau of Land Management, Public Affairs Office, 22835 Calle San Juan De Los Lagos, Moreno Valley, California 92553. Written comments also are accepted at the time of the meeting and, if copies are provided to the recorder, will be incorporated into the minutes.

FOR FURTHER INFORMATION CONTACT: Doran Sanchez, BLM California Desert District Public Affairs Specialist (951) 697-5220.

Dated: December 6, 2004.
Alan Stein,
Assistant District Manager.

[FR Doc. 04-27194 Filed 12-10-04; 8:45 am]

BILLING CODE 4310-40-P